DEPARTMENT OF LABOR

Employee Benefits Security Administration

Proposed Extension of Information Collection Request Submitted for Public Comment; Employee Benefit Plan Claims Procedures Under ERISA

AGENCY: Employee Benefits Security Administration, Department of Labor.

ACTION: Notice.

SUMMARY: The Department of Labor, as part of its continuing effort to reduce paperwork and respondent burden, conducts a preclearance consultation program to provide the general public and Federal agencies with an opportunity to comment on proposed and continuing collections of information in accordance with the Paperwork Reduction Act of 1995 (PRA 95). This program helps to ensure that requested data can be provided in the desired format, reporting burden (time and financial resources) is minimized, collection instruments are clearly understood, and the impact of collection requirements on respondents can be properly assessed. Currently, the Employee Benefits Security Administration is soliciting comments on the proposed extension of the information collection request (ICR) incorporated in regulations pertaining to Employee Benefit Plan Claims Procedures under the Employee Retirement Income Security Act of 1974 (ERISA).

A copy of the (ICR) can be obtained by contacting the individual shown in the ADDRESSES section of this notice.

DATES: Written comments must be submitted to the office shown in the Addresses section on or before December 5, 2003.

ADDRESSES: Gerald B. Lindrew, Department of Labor, Employee Benefits Security Administration, 200 Constitution Avenue, NW., Washington, DC 20210, (202) 693-8410, FAX (202) 693-4745 (these are not toll-free numbers).

SUPPLEMENTARY INFORMATION:

I. Background

Section 503 of ERISA provides that, pursuant to regulations promulgated by the Secretary of Labor, each employee benefit plan shall provide notice in writing to any participant or beneficiary whose claim for benefits under the plan has been denied. This notice must set forth the specific reasons for the denial and must be written in a manner calculated to be understood by the claimant. Plans must also afford a reasonable opportunity for a participant or beneficiary whose claim has been denied to obtain a full and fair review of the denial by the appropriate named fiduciary.

The Department first issued regulations pertaining to claims procedures in 1977. These procedures were subsequently amended by a Notice of Final Rulemaking published on November 21, 2000 (65 FR 70246). The regulatory provisions pursuant to ERISA section 503 are codified at 29 CFR 2560.503-1. These regulations require the establishment of reasonable claims procedures, and describe the timing and content of notices and disclosures that will be deemed to constitute part of a reasonable claims procedure.

II. Review Focus

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Office of Management and Budget's (OMB) approval of this ICR is scheduled to expire on November 30, 2003. After considering comments received in response to this notice, the Department intends to submit the ICR to OMB for continuing approval. No change to the existing ICR is proposed or made at this time.

Agency: Employee Benefits Security Administration, Department of Labor.

Title: Employee Benefit Plan Claims Procedures under ERISA.

Type of Review: Extension of a currently approved collection of information.

OMB Number: 1210-0053.

Affected Public: Individuals or households; Business or other for-profit; Not-for-profit institutions.

Respondents: 6,700,000.

Responses: 118,000,000.

Estimated Total Burden Hours: 333,000.

Estimated Total Burden Cost (Operating and Maintenance): $90,000,000.

Comments submitted in response to this notice will be summarized and/or included in the request for OMB approval of the information collection request; they will also become a matter of public record.

Dated: September 30, 2003.
Gerald B. Lindrew,
Deputy Director, Office of Policy and Research, Employee Benefits Security Administration.

[FR Doc. 03-25267 Filed 10-3-03; 8:45 am]

BILLING CODE 4510-29-P